DEPARTMENT OF STATE

[Public Notice: 7211]

In the Matter of the Review of the Designation of the Armed Islamic Group and All Associated Aliases as Foreign Terrorist Organizations Pursuant to Section 219 of the Immigration and Nationality Act, as Amended

Based upon a review of the Administrative Record assembled in this matter, and in consultation with the Attorney General and the Secretary of the Treasury, I conclude that the circumstances that were the basis for the 2003 re-designation of the Armed Islamic Group (GIA) as foreign terrorist organization have changed in such a manner as to warrant revocation of the designation. Although the GIA no longer meets the criteria for designation as a foreign terrorist organization, its remnants and some senior leaders have joined al Qa'ida in the Islamic Maghreb (AQIM), a designated Foreign Terrorist Organization.

Therefore, I hereby determine that the designation of the Armed Islamic Group as a foreign terrorist organization, pursuant to Section 219 of the Immigration and Nationality Act, as amended (8 U.S.C. 1189), shall be revoked.

This determination shall be published in the Federal Register.

Dated: September 28, 2010.
Hillary Rodham Clinton,
Secretary of State.

[FR Doc. 2010-26082 Filed 10-14-10; 8:45 am]

BILLING CODE 4710-10-P